DEPARTMENT OF COMMERCE

National Oceanic and Atmospheric Administration

[RTID 0648-XD077]

New England Fishery Management Council; Public Meeting

AGENCY: National Marine Fisheries Service (NMFS), National Oceanic and Atmospheric Administration (NOAA), Commerce.

ACTION: Notice of a public meeting.

SUMMARY: The New England Fishery Management Council (Council, NEFMC) will hold a 3-day in-person meeting with an option for remote participation to consider actions affecting New England fisheries in the exclusive economic zone (EEZ). The Council continues to follow all public safety measures related to COVID-19 and intends to do so for this meeting.

DATES: The meeting will be held on Tuesday, June 27, 2023 through Thursday, June 29, 2023, beginning at 9 a.m. each day.

ADDRESSES: The meeting will be held at the Hilton Garden Inn, 5 Park Street, Freeport, ME 04032; telephone: (207) 865-1433; online at https://www.hilton.com/en/hotels/pwmfdgi-hilton-garden-inn-freeport-downtown/. Join the webinar at https://attendee.gotowebinar.com/register/2165734872346457438.

Council address: New England Fishery Management Council, 50 Water Street, Mill 2, Newburyport, MA 01950; telephone (978) 465-0492; www.nefmc.org.

FOR FURTHER INFORMATION CONTACT: Thomas A. Nies, Executive Director, New England Fishery Management Council; telephone: (978) 465-0492, ext. 113.

SUPPLEMENTARY INFORMATION:

Agenda

Tuesday, June 27, 2023

The Council will begin this meeting with brief announcements, followed by reports on recent activities from the Council's Chair and Executive Director, the Greater Atlantic Regional Fisheries Office (GARFO) Regional Administrator, the Northeast Fisheries Science Center (NEFSC) Director, the NOAA Office of General Counsel, the Mid-Atlantic Fishery Management Council liaison, staff from the Atlantic States Marine Fisheries Commission (ASMFC), and representatives from the U.S. Coast Guard and NOAA's Office of Law Enforcement. Next, the Council will receive a presentation on the final report of the Council Coordination Committee's Subcommittee on Area-Based Management. The Skate Committee report will follow with two items: (1) a progress report on the development of 2024-2025 skate specifications and potential initiation of a framework adjustment to include measures to expand possession of smooth and barndoor skates; and (2) a presentation on and Council discussion of a final white paper containing potential approaches to support thorny skate rebuilding. Then, members of the public will have the opportunity to speak during an open comment period on issues that relate to Council business but are not included on the published agenda for this meeting. The Council asks the public to limit remarks to 3-5 minutes. These comments will be received both in person and through the webinar. A guide for how to publicly comment through the webinar is available on the Council website at https://s3.amazonaws.com/nefmc.org/NEFMC-meeting-remote-participation_generic.pdf.

After the lunch break, the Council will take up the Atlantic Herring Committee report and approve a problem statement for action to revisit the inshore midwater trawl exclusion zone contained in Herring Amendment 8. The Council also will consider a potential change in priorities to identify time/area closure options to reduce bycatch of river herring and shad in midwater trawl and small-mesh bottom trawl fisheries. Next on the agenda is a presentation on a NOAA Fisheries comment opportunity under an advance notice of proposed rulemaking (ANPR) for updating National Standard Guidelines 4, 8, and 9. The Council will receive input on the draft guidelines from its Scientific and Statistical Committee (SSC) and staff before formulating its own comments. The Council then will receive a brief overview of NOAA's Technical Guidance for National Standard 1 Reference Points and Status Determinations. The Council will discuss which process it prefers to use to develop comments on the technical guidance. The Council then will adjourn for the day.

Wednesday, June 28, 2023

The Council will begin the second day of its meeting with a presentation on the Greater Atlantic Regional Fisheries Office and Northeast Fisheries Science Center draft strategic plan. The Groundfish Committee report will come next. The Council will initiate Framework Adjustment 66, which may include: (1) 2024-26 specifications for redfish, northern windowpane flounder, and southern windowpane flounder, (2) 2024-25 specifications for white hake and U.S./Canada resources of Eastern Georges Bank cod, Eastern Georges Bank haddock, and Georges Bank yellowtail flounder, (3) a revised white hake rebuilding plan, and (4) Atlantic halibut management measures. The Council also will consider a potential change in priorities to revise Gulf of Maine haddock specifications for 2024 and 2025 in Framework 66. The Council will initiate a separate framework adjustment to revise acceptable biological catch (ABC) control rules for groundfish and receive Scientific and Statistical Committee feedback on control rule options. Finally, the Council will receive an update on its Atlantic Cod Management Transition Plan. Next up will be the Monkfish Research Set-Aside (RSA) Program Working Group, which will provide a progress report on a Council work priority to review and improve the Monkfish RSA program.

After the lunch break, the Council will receive an update on a joint New England and Mid-Atlantic Fishery Management Council action to reduce Atlantic sturgeon bycatch in large-mesh monkfish and dogfish gillnet fisheries. As part of this discussion, the Council will approve the range of alternatives for Monkfish Framework Adjustment 15, which will contain the proposed sturgeon measures. Next, the Council will receive a presentation from the National Fish and Wildlife Foundation (NFWF) on its competitive grant funding programs, including the Electronic Monitoring and Reporting Program and the New England Gear Innovation Fund, which is a new program that seeks to address issues related to right whale fishing gear entanglements. The Council will close out the day with a discussion on the East Coast Climate Change Scenario Planning initiative. The Council will: (1) review findings from the February 2023 East Coast Climate Change Scenario Planning Summit; (2) receive Northeast Region Coordinating Council (NRCC) feedback on the summit findings; and (3) discuss the findings and next steps.

Thursday, June 29, 2023

The Council will begin the third day of its meeting by hearing from the Ecosystem-Based Fishery Management (EBFM) Committee. The Council will receive: (1) the final report on the prototype management strategy evaluation (pMSE) for EBFM and the Georges Bank example Fishery Ecosystem Plan (eFEP); and (2) suggestions from a subpanel of the SSC intended to help improve the results of the pMSE's model scenarios. The Council also will receive an update on planning for upcoming deep-dive public information workshops on EBFM. The Scallop Committee then will present three items related to the Atlantic Sea Scallop Research Set-Aside (RSA) Program for Council consideration: (1) approval of longer-term RSA survey awards; (2) adoption of survey guiding principles; and (3) approval of 2024-2025 RSA priorities. The Council also will initiate action for fishing year 2024 specifications, 2025 defaults, and other measures. Another important scallop-related item will be covered under the next agenda item, the Habitat Committee report.

After the lunch break, the first item under the Habitat Committee report will focus on the Northern Edge of Georges Bank. The discussion will include an update and proposed timeline for action to potentially authorize scallop fishery access to the habitat management area at the top of Closed Area II on Georges Bank. The habitat report also will include a work plan update on the Essential Fish Habitat Review, followed by a Bureau of Ocean Energy Management (BOEM) update on the Gulf of Maine offshore wind call area and other wind developments. The Risk Policy Working Group will report next with an update on its efforts to address the terms of reference for revising the Council's Risk Policy. The Council then will receive a series of reports related to Atlantic Highly Migratory Species, which will cover: (1) the NOAA Fisheries HMS Management Division's presentation on (a) the proposed rule for Amendment 15 to the 2006 Consolidated HMS Fishery Management Plan; (b) the advance notice of proposed rulemaking on electronic reporting; and (c) scoping for Amendment 16 shark issues; (2) the HMS Advisory Panel report on the May 2023 meeting; and (3) the Advisory Committee to the U.S. Section to the International Commission on the Conservation of Atlantic Tunas (ICCAT) report on its April meeting. Finally, the Council will close out the meeting with other business.

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies (see ADDRESSES) at least 5 days prior to the meeting date.

Authority: 16 U.S.C. 1801 et seq.

Dated: June 5, 2023.
Rey Israel Marquez,
Acting Deputy Director, Office of Sustainable Fisheries, National Marine Fisheries Service.

[FR Doc. 2023-12276 Filed 6-7-23; 8:45 am]

BILLING CODE 3510-22-P